NUCLEAR REGULATORY COMMISSION

[NRC-2025-0001]

Sunshine Act Meetings

Correction

On Friday, February 6, 2026, a notice document appearing on pages 5509-5510 of the Federal Register was a previously-published Nuclear Regulatory Commission document listed under the Bureau of Land Management in the table of contents. The notice was published due to a technical issue and is hereby withdrawn.

[FR Doc. C1-2026-02421 Filed 2-9-26; 8:45 am]

BILLING CODE 0099-10-P